DEPARTMENT OF ENERGY

Federal Energy Regulatory Commission

[Docket No. EL12-76-000]

Maine Public Service Company; Notice of Initiation of Proceeding and Refund Effective Date

On June 28, 2012, the Commission issued an order that initiated a proceeding in Docket No. EL12-76-000, pursuant to section 206 of the Federal Power Act (FPA), 16 U.S.C. 824e (2006), to determine the justness and reasonableness of the proposed formula rate by Maine Public Service Company. Maine Public Service Company, 139 FERC ¶ 61,262 (2012).

The refund effective date in Docket No. EL12-76-000, established pursuant to section 206(b) of the FPA, will be the date of publication of this notice in the Federal Register.

Dated: June 29, 2012.
Nathaniel J. Davis, Sr.,
Deputy Secretary.

[FR Doc. 2012-16562 Filed 7-5-12; 8:45 am]

BILLING CODE 6717-01-P